DEPARTMENT OF ENERGY

Federal Energy Regulatory Commission

Combined Notice of Filings #1

Take notice that the Commission received the following electric rate filings:

Docket Numbers: ER10-3097-005.

Applicants: Bruce Power Inc.

Description: Notice of Non-Material Change in Status of Bruce Power Inc.

Filed Date: 3/2/16.

Accession Number: 20160302-5237.

Comments Due: 5 p.m. ET 3/23/16.

Docket Numbers: ER16-917-001; ER10-2870-006; ER10-2865-006; ER10-2860-007; ER10-2872-005; ER10-2868-005; ER14-2458-001; ER11-3013-005.

Applicants: TC Ironwood LLC, TransCanada Power Marketing Ltd, TransCanada Energy Sales Ltd., TC Ravenswood, LLC, TransCanada Maine Wind Development Inc., TransCanada Hydro Northeast Inc., Ocean State Power LLC, Coolidge Power LLC.

Description: Notice of Non-Material Change in Status of TransCanada MBR Sellers.

Filed Date: 3/2/16.

Accession Number: 20160302-5238.

Comments Due: 5 p.m. ET 3/23/16.

Docket Numbers: ER16-923-001.

Applicants: Puget Sound Energy, Inc.

Description: Tariff Amendment: EIM Revision Filing Due to Effective Date Issue to be effective 5/1/2016.

Filed Date: 3/2/16.

Accession Number: 20160302-5192.

Comments Due: 5 p.m. ET 3/9/16.

Docket Numbers: ER16-975-000.

Applicants: New York Independent System Operator, Inc., Niagara Mohawk Power Corporation.

Description: Amendment to February 19, 2016 Joint Notice of Termination of Small Generator Interconnection Service Agreement No. 1483 Among the New York Independent System Operator, Inc., et al.

Filed Date: 3/2/16.

Accession Number: 20160302-5206.

Comments Due: 5 p.m. ET 3/16/16.

Docket Numbers: ER16-1062-000.

Applicants: MidAmerican Energy Company.

Description: § 205(d) Rate Filing: Services Tariff v.2 to be effective 4/1/2016.

Filed Date: 3/3/16.

Accession Number: 20160303-5014.

Comments Due: 5 p.m. ET 3/24/16.

Docket Numbers: ER16-1063-000.

Applicants: Emera Maine.

Description: Notice of Termination of Emera Maine of Interconnection and Operating Agreement No. 42 under Bangor-Hydro Electric Company, FERC Electric Tariff 2nd Revised Volume No. 2.

Filed Date: 3/2/16.

Accession Number: 20160302-5243.

Comments Due: 5 p.m. ET 3/23/16.

Docket Numbers: ER16-1064-000.

Applicants: Southwest Power Pool, Inc.

Description: § 205(d) Rate Filing: 1636R15 Kansas Electric Power Cooperative, Inc. NITSA and NOA to be effective 8/1/2015.

Filed Date: 3/3/16.

Accession Number: 20160303-5029.

Comments Due: 5 p.m. ET 3/24/16.

Docket Numbers: ER16-1065-000.

Applicants: Southwest Power Pool, Inc.

Description: § 205(d) Rate Filing: 1875R1 Kansas Electric Power Cooperative, Inc. NITSA and NOA to be effective 8/1/2015.

Filed Date: 3/3/16.

Accession Number: 20160303-5031.

Comments Due: 5 p.m. ET 3/24/16.

Docket Numbers: ER16-1068-000.

Applicants: East Ridge Transmission, LLC.

Description: Baseline eTariff Filing: Transmission Agreement and Request for Certain Waivers and Blanket Approvals to be effective 5/3/2016.

Filed Date: 3/3/16.

Accession Number: 20160303-5129.

Comments Due: 5 p.m. ET 3/24/16.

Docket Numbers: ER16-1069-000.

Applicants: East Ridge Transmission, LLC.

Description: § 205(d) Rate Filing: Transmission Agreement and Request for Certain Waivers and Blanket Approvals to be effective 5/3/2016.

Filed Date: 3/3/16.

Accession Number: 20160303-5130.

Comments Due: 5 p.m. ET 3/24/16.

Docket Numbers: ER16-1070-000.

Applicants: East Ridge Transmission, LLC.

Description: § 205(d) Rate Filing: Transmission Agreement and Request for Certain Waivers and Blanket Approvals to be effective 5/3/2016.

Filed Date: 3/3/16.

Accession Number: 20160303-5131.

Comments Due: 5 p.m. ET 3/24/16.

Docket Numbers: ER16-1071-000.

Applicants: East Ridge Transmission, LLC.

Description: § 205(d) Rate Filing: Transmission Agreement and Request for Certain Waivers and Blanket Approvals to be effective 5/3/2016.

Filed Date: 3/3/16.

Accession Number: 20160303-5132.

Comments Due: 5 p.m. ET 3/24/16.

Docket Numbers: ER16-1072-000.

Applicants: East Ridge Transmission, LLC.

Description: § 205(d) Rate Filing: Transmission Agreement and Request for Certain Waivers and Blanket Approvals to be effective 5/3/2016.

Filed Date: 3/3/16.

Accession Number: 20160303-5133.

Comments Due: 5 p.m. ET 3/24/16.

Docket Numbers: ER16-1073-000.

Applicants: East Ridge Transmission, LLC.

Description: § 205(d) Rate Filing: Transmission Agreement and Request for Certain Waivers and Blanket Approvals to be effective 5/3/2016.

Filed Date: 3/3/16.

Accession Number: 20160303-5136.

Comments Due: 5 p.m. ET 3/24/16.

Docket Numbers: ER16-1074-000.

Applicants: East Ridge Transmission, LLC.

Description: § 205(d) Rate Filing: Transmission Agreement and Request for Certain Waivers and Blanket Approvals to be effective 5/3/2016.

Filed Date: 3/3/16.

Accession Number: 20160303-5141.

Comments Due: 5 p.m. ET 3/24/16.

Docket Numbers: ER16-1075-000.

Applicants: East Ridge Transmission, LLC.

Description: § 205(d) Rate Filing: Transmission Agreement and Request for Certain Waivers and Blanket Approvals to be effective 5/3/2016.

Filed Date: 3/3/16.

Accession Number: 20160303-5147.

Comments Due: 5 p.m. ET 3/24/16.

Take notice that the Commission received the following electric reliability filings:

Docket Numbers: RR15-2-004.

Applicants: North American Electric Reliability Corp.

Description: North American Electric Reliability Corporation Compliance Filing and Petition for Approval of Rules of Procedure Revision.

Filed Date: 3/3/16.

Accession Number: 20160303-5146.

Comments Due: 5 p.m. ET 3/24/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 3, 2016.
Nathaniel J. Davis, Sr.,
Deputy Secretary.

[FR Doc. 2016-05352 Filed 3-9-16; 8:45 am]

BILLING CODE 6717-01-P